DEPARTMENT OF ENERGY

Orders Granting Authority To Import and Export Natural Gas, To Import and Export Liquefied Natural Gas and To Vacate Prior Authorization During June 2015

| FE Docket Nos.
Orion Aviation, Corp | 15-51-NG
Orion Aviation, Corp | 15-54-LNG
Solensa S.A. de C.V | 15-57-LNG
Trans-Peco Pipeline, LLC | 15-75-NG
Sandcastle Petroleum Gas & Energy, LLC | 15-39-LNG
Venture Global Calcasieu Pass, LLC | 15-25-LNG
Cascade Natural Gas Corporation | 15-81-NG
Southern California Gas Company | 15-82-NG
Hermiston Generating Company, L.P | 15-83-NG
SV Global LNG Trading Company, LLC | 15-85-LNG
Petrochina International (Canada) Trading LTD | 15-87-NG
Gazprom Marketing & Trading USA, Inc | 15-23-NG
Sabine Pass Liquefaction, LLC | 13-30-LNG 13-42-LNG 13-121-LNG
Sithe/Independence Power Partners, L.P | 15-86-NG
Logistic Energy And Petroleum Services, Inc | 15-89-LNG
Chevron U.S.A. Inc | 15-91-NG

AGENCY: Office of Fossil Energy, Department of Energy.

ACTION: Notice of orders.

SUMMARY: The Office of Fossil Energy (FE) of the Department of Energy gives notice that during June 2015, it issued orders granting authority to import and export natural gas, to import and export liquefied natural gas and to vacate prior authority. These orders are summarized in the attached appendix and may be found on the FE Web site at http://energy.gov/fe/downloads/listing-doefe-authorizationsorders-issued-2015.

They are also available for inspection and copying in the Office of Fossil Energy, Office of Oil and Gas Global Security and Supply, Docket Room 3E-033, Forrestal Building, 1000 Independence Avenue SW., Washington, DC 20585, (202) 586-9478. The Docket Room is open between the hours of 8:00 a.m. and 4:30 p.m., Monday through Friday, except Federal holidays.

Issued in Washington, DC, on July 29, 2015.
John A. Anderson,
Director, Office of Oil and Gas Global Security and Supply, Office of Oil and Natural Gas.

Appendix—DOE/FE Orders Granting Import/Export Authorizations
Order No. | Date issued | FE Docket No. | Authorization holder | Description of action
3657 | 06/11/15 | 15-51-NG | Orion Aviation, Corp | Order granting blanket authority to import natural gas from Canada/Mexico.
3658 | 06/11/15 | 15-54-LNG | Orion Aviation, Corp | Order granting blanket authority to import LNG from various international sources by vessel and to export LNG to Canada/Mexico by vessel.
3659 | 06/11/15 | 15-57-LNG | Solensa S.A. de C.V | Order granting blanket authority to export LNG to Mexico by truck.
3660 | 06/11/15 | 15-75-NG | Trans-Peco Pipeline, LLC | Order granting blanket authority to import/export natural gas from/to Mexico.
3661 | 06/17/15 | 15-39-LNG | Sandcastle Petroleum Gas & Energy, LLC | Order granting blanket authorization to export LNG in ISO Containers loaded on vessels and in LNG vessels to Free Trade Agreement nations.
3662 | 06/17/15 | 15-25-LNG | Venture Global Calcasieu Pass, LLC | Order granting long-term, multi-contract authorization to export LNG by vessel from the proposed Venture Global Calcasieu Pass LNG Project in Cameron Parish, Louisiana to Free Trade Agreement nations.
3663 | 06/24/15 | 15-81-NG | Cascade Natural Gas Corporation | Order granting blanket authority to import natural gas from Canada.
3664 | 06/24/15 | 15-82-NG | Southern California Gas Company | Order granting blanket authority to import/export natural gas from/to Mexico.
3665 | 06/24/15 | 15-83-NG | Hermiston Generating Company, L.P | Order granting blanket authority to import natural gas from Canada.
3666 | 06/24/15 | 15-85-LNG | SV Global LNG Trading Company, LLC | Order granting blanket authority to import LNG from various international sources by vessel.
3667 | 06/24/15 | 15-87-NG | PetroChina International (Canada) Trading Ltd | Order granting blanket authority to import/export natural gas from/to Canada and vacating prior authorization.
3668 | 06/25/15 | 15-23-NG | Gazprom Marketing & Trading USA, Inc | Order granting blanket authority to import/export natural gas from/to Canada/Mexico.
3669 | 06/26/15 | 13-30-LNG 13-42-LNG 13-121-LNG | Sabine Pass Liquefaction, LLC | Final Opinion and Order granting long-term, multi-contract authority to export LNG by vessel from the Sabine Pass LNG Terminal located in Cameron Parish, Louisiana, to Non-Free Trade Agreement nations.
3670 | 06/25/15 | 15-86-NG | Sithe/Independence Power Partners, L.P | Order granting blanket authority to import/export natural gas from/to Canada.
3671 | 06/25/15 | 15-89-LNG | Logistic Energy and Petroleum Services Inc | Order granting blanket authority to import LNG from various international sources by vessel.
3672 | 06/25/15 | 15-91-NG | Chevron U.S.A. Inc | Order granting blanket authority to import/export natural gas from/to Canada.

[FR Doc. 2015-19108 Filed 8-3-15; 8:45 am]

BILLING CODE 6450-01-P